DEPARTMENT OF TRANSPORTATION

Federal Motor Carrier Safety Administration

[Docket No. FMCSA-2005-20027]

Qualification of Drivers; Exemption Applications; Vision

AGENCY: Federal Motor Carrier Safety Administration (FMCSA), DOT.

ACTION: Notice of applications for exemption from the vision standard; request for comments.

SUMMARY: This notice publishes the FMCSA's receipt of applications from 29 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before February 14, 2005.

ADDRESSES: You may submit comments identified by any of the following methods. Please identify your comments by the DOT DMS Docket Number FMCSA-2005-20027.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the SUPPLEMENTARY INFORMATION section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Maggi Gunnels, Office of Bus and Truck Standards and Operations, (202) 366-4001, FMCSA, Department of Transportation, 400 Seventh Street, SW., Washington, DC 20590-0001. Office hours are from 8 a.m. to 5 p.m., e.t., Monday through Friday, except Federal holidays.

SUPPLEMENTARY INFORMATION:

Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 29 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Eddie Alejandro

Mr. Alejandro, age 26, has had vision loss in his right eye since childhood due to a coloboma of the iris. His best-corrected visual acuity in the right eye is finger counting and in the left, 20/20. Following an examination in 2004, his optometrist certified, “Mr. Alejandro has been a commercial driver in the past with the same visual deficiency that he has now and had no problems. He is very aware of his ‘handicap’ and knows that side view mirrors are a must for him and that he needs to be extra cautious because of the field loss to the right eye. I feel that Mr. Alejandro is capable of operating a commercial vehicle if the above mentioned cautions are taken.” Mr. Alejandro submitted that he has driven straight trucks for 3 years, accumulating 299,000 miles. He holds a Class B commercial driver's license (CDL) from Illinois. His driving record for the last 3 years shows no crashes or convictions for moving violations in a CMV.

2. Eldred S. Boggs

Mr. Boggs, 52, has optic nerve atrophy in his right eye due to injury in 1976. His best-corrected visual acuity in the right eye is count fingers and in the left, 20/20. Following an examination in 2004, his ophthalmologist certified, “It is my medical opinion that Mr. Boggs has sufficient vision to perform the driving tasks required to operate a commercial vehicle.” Mr. Boggs reported that he has driven straight trucks for 4 years, accumulating 80,000 miles. He holds a Class A CDL from Oregon. His driving record for the last 3 years shows no crashes or convictions for moving violations in a CMV.

3. David F. Breuer

Mr. Breuer, 54, has a history of central serous retinopathy in his right eye since 1989. His best-corrected visual acuity in the right eye is 20/100 and in the left, 20/20. Following an examination in 2004, his ophthalmologist noted, “I would unequivocally state that Mr. Breuer is safe to drive a commercial vehicle.” Mr. Breuer reported that he has driven straight trucks for 1 year, accumulating 25,000 miles, and tractor-trailer combinations for 30 years, accumulating 2.5 million miles. He holds a Class ABCDM CDL from Wisconsin. His driving record for the last 3 years shows no crashes or convictions for moving violations in a CMV.

4. James T. Butler

Mr. Butler, 50, has had glaucomatous damage in his left eye since 2001. The visual acuity in his right eye is 20/20 and in the left, counting fingers. Following an examination in 2004, his ophthalmologist noted, “Since patient has visual acuity of 20/20 and no known disease in the right eye, in my opinion this patient should qualify to perform commercial vehicle driving tasks.” Mr. Butler reported that he has driven tractor-trailer combinations for 7 years, accumulating 700,000 miles. He holds a Class A CDL from Texas. His driving record for the last 3 years shows no crashes or convictions for moving violations in a CMV.

5. Roger K. Cox

Mr. Cox, 41, has a retinal scar in his right eye due to an injury 30 years ago. His best-corrected visual acuity in the right eye is 20/200 and in the left, 20/20. Following an examination in 2004, his ophthalmologist certified, “In my opinion Mr. Roger K. Cox has sufficient vision to perform the driving tasks required to operate a commercial vehicle.” Mr. Cox submitted that he has driven straight trucks for 20 years, accumulating 200,000 miles. He holds a Class B CDL from New Jersey. His driving record for the last 3 years shows no crashes or convictions for moving violations in a CMV.

6. Richard S. Cummings

Mr. Cummings, 47, lost the vision in his left eye due to an accident at age 8. The visual acuity in his right eye is 20/20, and in the left, light perception. His optometrist examined him in 2004 and stated, “I feel that since this condition is long-standing and stable, Mr. Cummings should be able to perform the visual tasks needed to operate a commercial vehicle.” Mr. Cummings submitted that he has driven straight trucks for 30 years, accumulating 825,000 miles, and tractor-trailer combinations for 28 years, accumulating 2.8 million miles. He holds a Class A CDL from Minnesota. His driving record for the last 3 years shows no crashes or convictions for moving violations in a CMV.

7. Joseph A. Dean

Mr. Dean, 28, lost his left eye at the age of 8 due to trauma. His visual acuity in the right eye is 20/20. Following an examination in 2004, his optometrist certified, “In my opinion, the vision in his healthy right eye is sufficient to perform the driving tasks necessary to operate a commercial vehicle in a safe manner.” Mr. Dean submitted that he has driven straight trucks and tractor-trailer combinations for 2 years each, accumulating 60,000 miles in the former and 30,000 miles in the latter. He holds a Class A CDL from Arkansas. His driving record for the last 3 years shows no crashes or convictions for moving violations in a CMV.

8. Donald P. Dodson, Jr.

Mr. Dodson, 46, has amblyopia in his right eye. His visual acuity in the right eye is 20/80 and in the left, 20/20. Following an examination in 2004, his ophthalmologist certified, “His vision is sufficient to perform the driving tasks required to operate a commercial vehicle.” Mr. Dodson submitted that he has driven straight trucks for 17 years, accumulating 37,000 miles. He holds a Class B CDL from West Virginia. His driving record for the last 3 years shows no crashes or convictions for moving violations in a CMV.

9. William H. Goss

Mr. Goss, 30, has had a retinal scar in his right eye since birth. His visual acuity in the right eye is 20/400 and in the left, 20/20. Following an examination in 2004, his optometrist noted, “This certifies that in my opinion the above named patient has sufficient vision to perform the driving tasks required to operate a commercial vehicle.” Mr. Goss submitted that he has driven straight trucks for 7 years, accumulating 182,000 miles. He holds a Class A CDL from Georgia. His driving record for the last 3 years shows no crashes or convictions for moving violations in a CMV.

10. Eric W. Gray

Mr. Gray, 46, has a macular scar in his right eye due to injury 34 years ago. The visual acuity in his right eye is count fingers and in the left, 20/15. His ophthalmologist examined him in 2004 and stated, “It is my medical opinion that Mr. Gray has sufficient vision to perform the driving tasks required to operate a commercial vehicle.” Mr. Gray reported that he has driven straight trucks for 10 years, accumulating 150,000 miles, and buses for 1 year, accumulating 20,000 miles. He holds a Class A CDL from Florida. His driving record for the last 3 years shows no crashes or convictions for moving violations in a CMV.

11. James K. Holmes

Mr. Holmes, 50, experienced a retinal detachment in his right eye in 1997. His best-corrected visual acuity in the right eye is 20/70 and in the left, 20/20. Following an examination in 2004, his optometrist certified, “I believe that he has sufficient vision to drive a commercial vehicle.” Mr. Holmes reported that he has driven straight trucks for 7 years, accumulating 140,000 miles, and tractor-trailer combinations for 25 years, accumulating 3.0 million miles. He holds a Class A CDL from Pennsylvania. His driving record for the last 3 years shows no crashes or convictions for moving violations in a CMV.

12. Daniel L. Jacobs

Mr. Jacobs, 47, has amblyopia in his left eye. The best-corrected visual acuity in his right eye is 20/20 and in the left, 20/70. His optometrist examined him in 2004 and certified, “In my professional opinion, I feel that Daniel Jacobs has sufficient vision to perform the tasks required to operate a commercial vehicle.” Mr. Jacobs reported that he has driven tractor-trailer combinations for 26 years, accumulating 2.6 million miles. He holds a Class A CDL from Arizona. His driving record for the last 3 years shows no crashes or convictions for moving violations in a CMV.

13. Jose M. Limon-Alvarado

Mr. Limon-Alvarado, 35, has amblyopia in his right eye. His best-corrected visual acuity in the right eye is 20/400 and in the left, 20/20. Following an examination in 2004, his optometrist certified, “It is my opinion that Jose has sufficient vision to perform the driving tasks required to operate a commercial vehicle.” Mr. Limon-Alvarado reported that he has driven straight trucks for 10 years, accumulating 102,000 miles, and tractor-trailer combinations for 5 years, accumulating 153,000 miles. He holds a Class A CDL from Washington. His driving record for the last 3 years shows no crashes or convictions for moving violations in a CMV.

14. Robert S. Loveless, Jr.

Mr. Loveless, 36, has decreased vision in his left eye due to trauma 20 years ago. The visual acuity in his right eye is 20/20 and in the left, 20/200. His optometrist examined him in 2004 and certified, “It is my opinion that he has adequate vision to operate a commercial vehicle.” Mr. Loveless reported that he has driven straight trucks for 17 years, accumulating 216,000 miles. He holds a Class A CDL from Tennessee. His driving record for the last 3 years shows no crashes or convictions for moving violations in a CMV.

15. Eugene R. Lydick

Mr. Lydick, 39, experienced a retinal detachment in his right eye in 1982. His best-corrected visual acuity in the right eye is finger counting and in the left, 20/25. Following an examination in 2004, his ophthalmologist certified, “In my professional opinion, this patient has sufficient vision to perform the driving tasks required to operate a commercial vehicle.” Mr. Lydick reported that he has driven tractor-trailer combinations for 4 years, accumulating 400,000 miles. He holds a Class AM CDL from Virginia. His driving record for the last 3 years shows no crashes or convictions for moving violations in a CMV.

16. John W. Montgomery

Mr. Montgomery, 51, has a macular scar in his right eye due to injury 27 years ago. His visual acuity in the right eye is 20/200, and in the left, 20/25. Following an examination in 2004, his ophthalmologist certified, “In my professional opinion, the patient has sufficient vision to perform the driving tasks required to operate a commercial vehicle.” Mr. Montgomery reported that he has driven straight trucks for 9 years, accumulating 270,000 miles, and tractor-trailer combinations for 22 years, accumulating 1.1 million miles. He holds a Class AM CDL from Massachusetts. His driving record for the last 3 years shows no crashes or convictions for moving violations in a CMV.

17. Danny R. Pickelsimer

Mr. Pickelsimer, 26, has amblyopia in his right eye. The best-corrected visual acuity in his right eye is light perception and in the left, 20/20. His optometrist examined him in 2004 and stated, “In my medical opinion, Mr. Pickelsimer has sufficient vision to perform the driving tasks required to operate a commercial motor vehicle.” Mr. Pickelsimer submitted that he has driven straight trucks for 7 years, accumulating 70,000 miles. He holds a Class D driver's license from Oklahoma. His driving record for the last 3 years shows no crashes or convictions for moving violations in a CMV.

18. Zeljko Popovac

Mr. Popovac, 47, had a macular vision loss in his left eye in 1971 due to an injury. The visual acuity in his right eye is 20/20 and in the left, 20/100. Following an examination in 2004, his optometrist stated, “In my medical opinion, he has sufficient vision to perform the driving tasks required to operate a commercial vehicle.” Mr. Popovac reported that he has driven straight trucks for 3 years, accumulating 112,000 miles. He holds a Class A CDL from Vermont. His driving record for the last 3 years shows no crashes or convictions for moving violations in a CMV.

19. Juan Manuel M. Rosas

Mr. Rosas, 32, had congenital cataracts removed from his right eye at age 3. The best-corrected visual acuity in his right eye is hand motion and in the left, 20/20. His optometrist examined him in 2004 and stated, “This is to certify that Juan's condition is stable and that he has sufficient vision to operate a commercial vehicle.” Mr. Rosas submitted that he has driven straight trucks and tractor-trailer combinations for 8 years, accumulating 280,000 miles in the former and 400,000 miles in the latter. He holds a Class A CDL from Arizona. His driving record for the last 3 years shows no crashes or convictions for moving violations in a CMV.

20. Francis L. Savell

Mr. Savell, 56, lost the vision in his left eye due to trauma in 1979. His best-corrected visual acuity in the right eye is 20/20. Following an examination in 2004, his ophthalmologist noted, “In my opinion, Mr. Savell has sufficient vision to perform the driving tasks required to operate a commercial vehicle.” Mr. Savell reported that he has driven straight trucks for 20 years, accumulating 140,000 miles, and tractor-trailer combinations for 1 year, accumulating 25,000 miles. He holds a Class D chauffeur's license from Louisiana. His driving record for the last 3 years shows no crashes or convictions for moving violations in a CMV.

21. Richie J. Schwendy

Mr. Schwendy, 50, lost the central vision in his left eye due to an injury in 1970. The best-corrected visual acuity in his right eye is 20/20. His optometrist examined him in 2004 and noted, “In my opinion, Mr. Schwendy has sufficient vision to perform the driving tasks required to operate a commercial vehicle.” Mr. Schwendy reported that he has driven straight trucks for 12 years, accumulating 480,000 miles, and tractor-trailer combinations for 11 years, accumulating 550,000 miles. He holds a Class AM CDL from Illinois. His driving record for the last 3 years shows no crashes or convictions for moving violations in a CMV.

22. David M. Stout

Mr. Stout, 50, lost his right eye due to an accident at age 10. The best-corrected visual acuity in his left eye is 20/20. His optometrist examined him in 2004 and stated, “In my medical opinion, David Stout has sufficient vision to perform the driving tasks required to operate a commercial vehicle.” Mr. Stout reported that he has driven straight trucks for 10 years, accumulating 1.0 million miles, and tractor trailer combinations for 18 years, accumulating 1.8 million miles. He holds a Class A CDL from Oregon. His driving record for the last 3 years shows no crashes or convictions for moving violations in a CMV.

23. Artis Suitt

Mr. Suitt, 51, has reduced vision in his left eye due to an injury at age 10. The visual acuity in his right eye is 20/15 and in the left, 20/400. His ophthalmologist examined him in 2004 and stated, “In my opinion, he has sufficient vision to perform the driving tasks required to operate a commercial vehicle as he has done this for 20 years, and his vision has basically been unchanged during that time.” Mr. Suitt submitted that he has driven straight trucks for 3 years, accumulating 150,000 miles, and tractor-trailer combinations for 20 years, accumulating 2.1 million miles. He holds a Class A CDL from North Carolina. His driving record for the last 3 years shows no crashes and one conviction for a moving violation—speeding—in a CMV. He exceeded the speed limit by 15 mph.

24. Gregory E. Thompson

Mr. Thompson, 41, has amblyopia in his right eye. The best-corrected visual acuity in his right eye is 20/50 and in the left, 20/20. His optometrist examined him in 2004 and certified, “In my medical opinion, this patient has sufficient visual acuity to perform the driving tasks required to operate a commercial vehicle.” Mr. Thompson submitted that he has driven tractor-trailer combinations for 11 years, accumulating 1.1 million miles. He holds a Class A CDL from Florida. His driving record for the last 3 years shows no crashes and one conviction for a moving violation—“failure to obey traffic sign”—in a CMV.

25. Kerry W. VanStory

Mr. VanStory, 53, has amblyopia in his left eye. The best-corrected visual acuity in his right eye is 20/20 and in the left, 20/400. His optometrist examined him in 2004 and certified, “Based upon his current findings, and his past examinations, it is my medical opinion that Mr. VanStory is completely capable to safely operate a commercial vehicle based upon his current visual status.” Mr. VanStory reported that he has driven tractor-trailer combinations for 20 years, accumulating 900,000 miles. He holds a Class AMX CDL from Texas. His driving record for the last 3 years shows no crashes or convictions for moving violations in a CMV.

26. Harry S. Warren

Mr. Warren, 34, has amblyopia in his right eye. The best-corrected visual acuity in his right eye is 20/150 and in the left, 20/20. Following an examination in 2004, his optometrist certified, “In my medical opinion, Mr. Warren's vision is more than adequate for operating a commercial vehicle.” Mr. Warren reported that he has driven straight trucks for 7 years, accumulating 700,000 miles, and tractor-trailer combinations for 11 years, accumulating 1.0 million miles. He holds a Class A CDL from Florida. His driving record for the last 3 years shows no crashes or convictions for moving violations in a CMV.

27. Carl L. Wells

Mr. Wells, 61, had his right eye surgically removed in 1987 due to choroidal melanoma. His best-corrected visual acuity in the left eye is 20/20. Following an examination in 2004, his optometrist certified, “I certify that Mr. Wells has sufficient vision to perform the driving tasks required to operate a commercial vehicle.” Mr. Wells reported that he has driven tractor-trailer combinations for 19 years, accumulating 2.4 million miles. He holds a Class A CDL from Washington. His driving record for the last 3 years shows no crashes or convictions for moving violations in a CMV.

28. Prince E. Williams

Mr. Williams, 66, has a macular scar in his left eye due to an infection 30 years ago. His visual acuity in the right eye is 20/20 and in the left, 20/400. Following an examination in 2004, his ophthalmologist certified, “It is in my opinion that Mr. Williams has sufficient vision to perform the driving tasks required to operate a commercial vehicle.” Mr. Williams reported that he has driven straight trucks for 20 years, accumulating 1.9 million miles. He holds a Class B CDL from Georgia. His driving record for the last 3 years shows no crashes or convictions for moving violations in a CMV.

29. Keith L. Wraight

Mr. Wraight, 57, has amblyopia in his left eye. The visual acuity in his right eye is 20/15 and in the left, 20/400. His optometrist examined him in 2004 and stated, “Patient has sufficient vision to perform the driving tasks required to operate a commercial vehicle.” Mr. Wraight submitted that he has driven straight trucks for 25 years, accumulating 625,000 miles, and tractor-trailer combinations for 18 years, accumulating 720,000 miles. He holds a Class AM CDL from New York. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: January 10, 2005.
Rose A. McMurray,
Associate Administrator, Policy and Program Development.

[FR Doc. 05-850 Filed 1-13-05; 8:45 am]

BILLING CODE 4910-EX-P